DEPARTMENT OF COMMERCE

International Trade Administration

[A-307-815]

Postponement of Final Determination of Antidumping Duty Investigation of Cold-Rolled Flat-Rolled Carbon-Quality Steel From Venezuela

AGENCY: Import Administration, International Trade Administration, Department of Commerce.

ACTION: Notice of postponement of final determination of antidumping investigation of cold-rolled steel from Venezuela.

SUMMARY: The Department of Commerce (the Department) is extending the time limit of the final determination of the antidumping investigation of cold-rolled flat-rolled carbon-quality steel from Venezuela.

EFFECTIVE DATE: February 4, 2000.

FOR FURTHER INFORMATION CONTACT: Maureen McPhillips or Linda Ludwig, Office of AD/CVD Enforcement, Group III, Import Administration, International Trade Administration, U.S. Department of Commerce, 14th Street and Constitution Avenue, NW, Washington, DC 20230; telephone (202) 482-0193 or (202) 482-3833, respectively.

The Applicable Statute

Unless otherwise indicated, all citations to the Tariff Act of 1930 (the Act), as amended, are references to the provisions effective January 1, 1995, the effective date of the amendments made to the Act by the Uruguay Round Agreements Act (URAA). In addition, all citations to the Department's regulations are to the regulations at 19 CFR Part 351 (April 1999).

Postponement of Final Determinations and Extension of Provisional Measures

Pursuant to Section 735(a)(2) of the Tariff Act, on January 6, 2000, Siderurgica del Orinoco, C.A. (Sidor) requested that the Department postpone the final determination in this case for the full sixty days permitted by the statute. Sidor's request meets the requirements of section 735(a)(2)(A) because Sidor is the only Venezuelan exporter of the subject merchandise to the United States, and the preliminary determination in this investigation was affirmative. Further, pursuant to section 733(d) and 19 CFR 351.210(e)(2), Sidor requested that the Department extend the period that provisional measures may remain in effect from four months to not more than six months (i.e., suspension of liquidation). This notice serves to postpone this final determination for 60 days (i.e., until no later than 135 days after the date of publication of the preliminary determination). Suspension of liquidation will be extended accordingly.

This notice of postponement is published pursuant to 19 CFR 351.210(g).

Dated: January 18, 2000.
Robert S. LaRussa,
Assistant Secretary for Import Administration.

[FR Doc. 00-1844 Filed 2-3-00; 8:45 am]

BILLING CODE 3510-DS-P